DEPARTMENT OF DEFENSE

Department of the Army

Privacy Act of 1974; System of Records

AGENCY: Department of the Army, DoD.

ACTION: Notice to alter a system of records.

SUMMARY: The Department of the Army is altering a system of records notice in its existing inventory of record systems subject to the Privacy Act of 1974 (5 U.S.C. 552a), as amended. The alteration adds a routine use to the system of records notice to permit the disclosure of information to the Internal Revenue Service to report taxable earnings and taxes withheld and other taxable data.

DATES: This proposed action will be effective without further notice on February 22, 2000, unless comments are received which result in a contrary determination.

ADDRESSES: Privacy Act Officer, Records Management Program Division, U.S. Total Army Personnel Command, ATTN: TAPC-PDR-P, Stop C55, Ft. Belvoir, VA 22060-5576.

FOR FURTHER INFORMATION CONTACT: Ms. Janice Thornton at (703) 806-4390 or DSN 656-4390.

SUPPLEMENTARY INFORMATION: The Department of the Army systems of records notices subject to the Privacy Act of 1974 (5 U.S.C. 552a), as amended, have been published in the Federal Register and are available from the address above.

The proposed system report, as required by 5 U.S.C. 552a(r) of the Privacy Act of 1974, as amended, was submitted on January 5, 2000 to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 13, 2000.
L.M. Bynum,
Alternate OSD Federal Register Liaison Officer, Department of Defense.

A0037-104-3 USMA

System name:

USMA Cadet Account System (February 22, 1993, 58 FR 10002).

Changes:

* * * * *

Authority for maintenance of the system:

Delete entry and replace with “10 U.S.C. 3013, Secretary of Army; 10 U.S.C. 4340 and 4350; Title 7 of the General Accounting Office Policy and Procedures Manual for Guidance of Federal Agencies; and E.O. 9397 (SSN)”.

Purpose(s):

Delete second paragraph.

Routine uses of records maintained in the system, including categories of users and the purposes of such uses:

Add a new paragraph to entry “To the Internal Revenue Service to report taxable earnings and taxes withheld and other taxable data.”

* * * * *

Safeguards:

Delete entry and replace with “Records are maintained in office areas which are secured and accessible only to personnel who have need therefor in the performance of official duties. User ID and password protect automated system. The physical system is accessible only to authorized personnel.”

Retention and disposal:

Delete entry and replace with “Financial statements and schedules, both fiche and automated data, will be retained for a period of at least 6 years and 3 months. This information is not archived but destroyed by shedding/erasure.”

* * * * *

A0037-104-3 USMA

System name:

USMA Cadet Account System.

System location:

U.S. Military Academy, West Point, NY 10996-1783.

Categories of individuals covered by the system:

Members of the U.S. Corps of Cadets, U.S. Military Academy.

Categories of records in the system:

Monthly deposit listings of Corps of Cadets members showing entitlements and activities pertaining to funds held in trust by the USMA Treasurer.

Authority for maintenance of the system:

10 U.S.C. 3013, Secretary of Army; 10 U.S.C. 4340 and 4350; Title 7 of the General Accounting Office Policy and Procedures Manual for Guidance of Federal Agencies; and E.O. 9397 (SSN).

Purpose(s):

To compute debits and credits posted against cadet account balances. Debits include charges to the cadet account for uniforms, textbooks, computers and related supplies, academic supplies, various fees, etc.; credits include advance pay, monthly deposits from payroll, scholarships, initial deposits, interest accumulated on cadet account balances, and individual deposits. All funds are held in trust by the Treasurer, USMA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Internal Revenue Service to report taxable earnings and taxes withheld and other taxable data.

The “Blanket Routine Uses” set forth at the beginning of the Army's compilation of systems of records notices also apply to this system.

Disclosure to consumer reporting agencies:

Disclosures pursuant to 5 U.S.C. 552a(b)(12) may be made from this system to ‘consumer reporting agencies’ as defined in the Fair Credit Reporting Act (15 U.S.C. 1681a(f)) or the Federal Claims Collection Act of 1966 (31 U.S.C. 3701(a)(3)). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Electronically on computers and microfiche.

Retrievability:

By Cadet's account number, surname or Social Security Number.

Safeguards:

Records are maintained in office areas which are secured and accessible only to personnel who have need therefor in the performance of official duties. User ID and password protect automated system. The physical system is accessible only to authorized personnel.

Retention and disposal:

Financial statements and schedules, both fiche and automated data, will be retained for a period of at least 6 years and 3 months. This information is not archived but destroyed by shedding/erasure.

System manager(s) and address:

Superintendent, U.S. Military Academy, ATTN: USMA Treasurer, West Point, NY 10996-1783.

Notification procedure:

Individuals seeking to determine whether information about themselves is contained in this system should address written inquiries to the Superintendent, U.S. Military Academy, ATTN: USMA Treasurer, West Point, NY 10996-1783.

Individual should provide full name, cadet account number, Social Security Number, graduating class year, current address and telephone number, and signature.

Record access procedures:

Individuals seeking access to information about themselves contained in this system should address written inquiries to the Superintendent, U.S. Military Academy, ATTN: USMA Treasurer, West Point, NY 10996-1783.

Individual should provide full name, cadet account number, Social Security Number, graduating class year, current address and telephone number, and signature.

Personal visits may be made to the Treasurer, U.S. Military Academy; individual must provide acceptable identification such as valid driver's license and information that can be verified with his/her payroll.

Contesting record procedures:

The Army's rules for accessing records, and for contesting contents and appealing initial agency determinations are contained in Army Regulation 340-21; 32 CFR part 505; or may be obtained from the system manager.

Record source categories:

From the individual, Department of Army, Department of the Treasurer, financial institutions and insurance companies.

Exemptions claimed for the system:

None.

[FR Doc. 00-1314 Filed 1-20-00; 8:45 am]

BILLING CODE 5001-10-F